DEPARTMENT OF TRANSPORTATION

Federal Aviation Administration

Noise Compatibility Program for Hollywood Burbank Airport, Burbank, Los Angeles County, California

AGENCY: Federal Aviation Administration, DOT.

ACTION: Acceptance of Hollywood Burbank airport noise exposure maps.

SUMMARY: The Federal Aviation Administration (FAA) announces its determination that the noise exposure maps submitted by Burbank-Glendale-Pasadena Airport Authority (BGPAA) for Hollywood Burbank Airport is compliant with applicable statutory and regulatory requirements.

DATES: The effective date of the FAA's determination on the noise exposure maps is November 20, 2025.

FOR FURTHER INFORMATION CONTACT: Justin S. Kim, Environmental Protection Specialist, Federal Aviation Administration, 777 South Aviation Boulevard, Suite 150, El Segundo, California 90245. Telephone 424-405-7283.

SUPPLEMENTARY INFORMATION: The FAA determined the noise exposure maps submitted by the BGPAA for Hollywood Burbank Airport, is in compliance with applicable statutory and regulatory requirements, effective November 20, 2025. Under title 49, United States Code (U.S.C.) section 47503, an airport operator may submit to the FAA, noise exposure maps depicting non-compatible uses as of the date such map is submitted, a description of estimated aircraft operations during a forecast period that is at least five years in the future and how those operations will affect the map. Noise exposure maps must be prepared in accordance with title 14, Code of Federal Regulations (CFR) part 150, the regulations promulgated pursuant to 49 U.S.C. 47502 and developed in consultation with public agencies and planning authorities in the area surrounding the airport, state and Federal agencies, interested and affected parties in the local community, and aeronautical users of the airport. In addition, an airport operator that submitted noise exposure maps, which the FAA determined is compliant with statutory and regulatory requirements, may submit a noise compatibility program for FAA approval that sets forth measures the operator has taken or proposes to take to reduce existing non-compatible uses and prevent the introduction of additional non-compatible uses.

The FAA completed its review of the noise exposure maps and supporting documentation submitted by BGPAA and determined the noise exposure maps and accompanying documentation are compliant with applicable requirements. The documentation that constitutes the Noise Exposure Maps include: “Figure 5-1—Existing Conditions (2025) Noise Exposure Map” and “Figure 5-2—Future Conditions (2030) Noise Exposure Map” which addresses the current and forecast NEM graphics. The “Hollywood Burbank Airport Part 150 Noise Exposure Map Update,” dated August 2025, complies with all other applicable narrative, graphic, and tabular representations of the data including airport description, flight track data, aircraft operations data, aviation forecast data, on-airport and off-airport land use information as required by 14 CFR A150.101 and 49 U.S.C. 47503. This determination is effective on November 20, 2025. FAA's determination on an airport's noise exposure maps is limited to a finding that the noise exposure maps were developed in accordance with the 49 U.S.C section 47503 and procedures contained in 14 CFR A150.101. FAA's acceptance of an NEM does not constitute approval of the applicant's data, information or plans, or a commitment to approve a noise compatibility program or to fund the implementation of that program. If questions arise concerning the precise relationship of specific properties within noise exposure contours depicted on the noise exposure maps, it should be noted that the FAA is not involved in any way in determining the relative locations of specific properties with regard to the depicted noise contours or in interpreting the noise exposure maps to resolve questions concerning, for example, which properties should be covered by the provisions of 49 U.S.C. 47506. These functions are inseparable from the ultimate land use control and planning responsibilities of local government. These local responsibilities are not changed in any way under 14 CFR part 150 or through FAA review and acceptance of the noise exposure maps. Therefore, the responsibility for the detailed overlaying of noise exposure contours onto the maps depicting properties on the surface rests exclusively with the airport operator that submitted the noise exposure maps or with those public agencies and planning authorities with which consultation is required under 49 U.S.C section 47503. The FAA relied on the certification by the airport operator that the consultations and opportunity for public review required under 14 CFR 150.21 has been accomplished during the development of the noise exposure maps. Copies of the noise exposure maps and supporting documentation and the FAA's evaluation of the noise exposure maps are available for examination at the following locations:

1. Federal Aviation Administration, Los Angeles Airports District Office, 777 South Aviation Boulevard, Suite 150, El Segundo, California 90245.

2. Hollywood Burbank Airport, 2627 North Hollywood Way, Burbank, California 91505

Questions may be directed to the individual listed in the FOR FURTHER INFORMATION CONTACT section of this notice.

Issued in El Segundo, California on November 20, 2025.
Brian Q. Armstrong,
Acting Director, Airports Division, AWP-600 Western-Pacific Region.

[FR Doc. 2025-20904 Filed 11-24-25; 8:45 am]

BILLING CODE 4910-13-P